DEPARTMENT OF THE INTERIOR

National Park Service

[N6850; NPS-WASO-NAGPRA-NPS0041828; PPWOCRADN0-PCU00RP14.R50000]

Notice of Intended Repatriation: Brooklyn Museum, Brooklyn, NY

AGENCY: National Park Service, Interior.

ACTION: Notice.

SUMMARY: In accordance with the Native American Graves Protection and Repatriation Act (NAGPRA), the Brooklyn Museum intends to repatriate certain cultural items that meet the definition of unassociated funerary objects, sacred objects, and/or objects of cultural patrimony and that have a cultural affiliation with the Indian Tribes or Native Hawaiian organizations in this notice.

DATES: Repatriation of the cultural items in this notice may occur on or after February 17, 2026.

ADDRESSES: Send additional, written requests for repatriation of the cultural items in this notice to Dare Turner, Brooklyn Museum, 200 Eastern Parkway, Brooklyn, NY 11238-6052, email dare.turner@brooklynmuseum.org.

SUPPLEMENTARY INFORMATION: This notice is published as part of the National Park Service's administrative responsibilities under NAGPRA. The determinations in this notice are the sole responsibility of the Brooklyn Museum and additional information on the determinations in this notice, including the results of consultation, can be found in the summary or related records. The National Park Service is not responsible for the determinations in this notice.

Abstract of Information Available

A total of two cultural items have been requested for repatriation. The two sacred objects/objects of cultural patrimony are masks.

In 1946, the Brooklyn Museum purchased one mask from the New York-based Plume Trading and Sales Company. In Museum records, the mask is documented as Seneca.

In 1972, the Brooklyn Museum purchased one mask from the Heye Foundation. The mask was acquired on the Cattaraugus Reservation, New York, by Alanson Skinner for the Heye Foundation.

There is no specific record of hazardous substances used in the treatment of either cultural item. However, the Brooklyn Museum has historically used pesticides containing arsenic and heavy metals on other collections and in collection spaces.

Determinations

The Brooklyn Museum has determined that:

• The two sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Seneca Nation of Indians.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 17, 2026. If competing requests for repatriation are received, the Brooklyn Museum must determine the most appropriate requestor prior to repatriation. Requests for joint repatriation of the cultural items are considered a single request and not competing requests. The Brooklyn Museum is responsible for sending a copy of this notice to the Indian Tribes and Native Hawaiian organizations identified in this notice and to any other consulting parties.

(Authority: Native American Graves Protection and Repatriation Act, 25 U.S.C. 3004 and the implementing regulations, 43 CFR 10.9.)

Dated: January 9, 2026.
Melanie O'Brien,
Manager, National NAGPRA Program.

[FR Doc. 2026-00658 Filed 1-14-26; 8:45 am]

BILLING CODE 4312-52-P